DEPARTMENT OF JUSTICE

[OMB Number 1110-0064]

Agency Information Collection Activities; Proposed eCollection eComments Requested; FBI Expungement and Sealing Form (FD-1114)

AGENCY: Criminal Justice Information Services (CJIS) Division, Federal Bureau of Investigation (FBI), Department of Justice.

ACTION: 30-Day notice.

SUMMARY: The CJIS Division, FBI, DOJ, will be submitting the following information collection request to the Office of Management and Budget (OMB) for review and approval in accordance with the Paperwork Reduction Act of 1995.

DATES: Comments are encouraged and will be accepted for 30 days until April 28, 2025.

FOR FURTHER INFORMATION CONTACT: If you have comments especially on the estimated public burden or associated response time, suggestions, or need a copy of the proposed information collection instrument with instructions or additional information, please contact: Brian A. Cain, Management and Program Analyst, FBI, CJIS, Criminal History Information and Policy Unit, BTC-3, 1000 Custer Hollow Road, Clarksburg, WV 26306; phone: 304-625-5590 or email bacain@fbi.gov.

SUPPLEMENTARY INFORMATION: The proposed information collection was previously published in the Federal Register on January 7, 2025, 90 FR 1196, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control 1110-0064. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: FBI Expungement and Sealing Form.

3. Agency form number, if any, and the applicable component of the Department of Justice sponsoring the collection: (FD-1114); CJIS, FBI, DOJ.

4. Affected public who will be asked or required to respond, as well as a brief abstract: Affected Public: State, local and tribal governments, Federal Government. The obligation to respond is required to mandatory per 28 CFR 20.37 as agencies contributing data to the NGI System are responsible for accuracy, completeness, currency, and integrity.

Abstract: It is essential the FBI Expungement Form (FD-1114) be utilized for the CJIS Division, to assure identity history information is collected, stored, removed and thus, disseminated in a manner to ensure accuracy, completeness, currency, integrity, and security of such information to protect individual privacy and provide maximum service to all law enforcement and governmental agencies.All of which is imposed on the FBI, CJIS Division, by Title 28, Code of Federal Regulations (CFR), Part 20.1.

5. Obligation to Respond: The obligation to respond is required to mandatory per 28 CFR 20.37 as agencies contributing data to the NGI System are responsible for accuracy, completeness, currency, and integrity.

6. Total Estimated Number of Respondents: 147,610.

7. Estimated Time per Respondent: 3.5.

8. Frequency: As often as necessary to perform expungement and sealing.

9. Total Estimated Annual Time Burden: 8,611 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: March 24, 2025.
Darwin Arceo,
Department Clearance Officer for PRA, U.S. Department of Justice.

[FR Doc. 2025-05334 Filed 3-27-25; 8:45 am]

BILLING CODE 4410-02-P